DEPARTMENT OF LABOR

[OMB 1205-0030]

Comment Request for Information Collection for OMB 1205-0030, Job Corps Enrollee Allotment Determination, Extension Without Revisions

AGENCY: Employment and Training Administration, Labor.

ACTION: Notice.

SUMMARY: The Department of Labor, as part of its continuing effort to reduce paperwork and respondent burden conducts a preclearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about OMB 1205-0030 (October 31, 2010).

A copy of the proposed information collection request (ICR) can be obtained by contacting the office listed below in the addressee section of this notice.

DATES: Written comments must be submitted to the office listed in the addressee's section below on or before October 19, 2010.

ADDRESSES: Submit written comments to Linda Estep, Office of Job Corps, Room N4507 Employment and Training Administration, 200 Constitution Avenue, NW., Washington, DC 20210. Telephone number: 888-886-1303 ext. 7212 (this is a toll-free number). Fax: 202-693-2764. E-mail: estep.linda@dol.gov.

SUPPLEMENTARY INFORMATION:

I. Background

Job Corps is an intensive, residential training program for at-risk youth age 16 through 24 to address multiple barriers to employment faced by youth throughout the United States. Job Corps is authorized by Title I, Subtitle C, of the Workforce Investment Act (WIA) of 1998. The program is principally carried out through a nationwide network of 123 Job Corps centers. The centers are located at facilities either owned or leased by the Federal Government. The Department has a direct role in the operation of Job Corps, and does not serve as a pass-through agency for this program. It is the Department's responsibility to establish Job Corps centers and to select operators for them. Of the 123 current centers, 28 are operated by the Department of Agriculture through an interagency agreement. These centers are located on Federal lands. The remaining 95 centers are managed and operated by large and small corporations and nonprofit organizations selected by the Department in accordance with the Federal Acquisition Regulations, and in most cases through a competitive procurement process. Many of the current contractors manage and operate more than one center.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Job Corps Enrollee Allotment Determination.

OMB Number: Existing number, OMB 1205-0030.

Affected Public: Individuals or households, Federal Government.

Form(s): ETA-658.

Total Annual Respondents: 1,100.

Annual Frequency: Annually.

Total Annual Responses: 1,100.

Average Time per Response: 3.

Estimated Total Annual Burden Hours: 55 hours.

Total Annual Burden Cost for Respondents: $283.25.

The purpose of this collection is to provide a vehicle to make allotments available to students who both desire an allotment and have a qualifying dependent. This is completed by the Job Corps admissions counselors or center staff and signed by the student during a personal interview.

Comments submitted in response to this comment request will be summarized and/or included in the request for Office of Management and Budget approval of the information collection request; they will also become a matter of public record.

Dated: August 17, 2010.
Jane Oates,
Assistant Secretary, Employment and Training Administration.

[FR Doc. 2010-20717 Filed 8-19-10; 8:45 am]

BILLING CODE 4510-FT-P